ENVIRONMENTAL PROTECTION AGENCY

[FRL-11288-01-R8]

Clean Air Act Operating Permit Program; Order on Petitions for Objection to State Operating Permit for Terra Energy Partners, Rocky Moutain LLC, Parachute Water Management Facility

AGENCY: Environmental Protection Agency (EPA).

ACTION: Notice of final order on petitions.

SUMMARY: The Environmental Protection Agency (EPA) Administrator signed an order dated July 14, 2023, granting in part and denying in part a petition dated November 22, 2022 from WildEarth Guardians and a petition dated November 23, 2022 from the Center for Biological Diversity and Grand Valley Citizens Alliance. The petitions requested that the EPA object to a Clean Air Act (CAA) operating permit issued by the Colorado Department of Public Health and Environment (CDPHE) to Terra Energy Partners, Rocky Moutain LLC for its Parachute Water Management Facility located in Garfield County, Colorado.

FOR FURTHER INFORMATION CONTACT: Donald Law, EPA Region 8, telephone number: (303) 312-7015, email address: law.donald@epa.gov. The final order and petition are available electronically at: https://www.epa.gov/title-v-operating-permits/title-v-petition-database.

SUPPLEMENTARY INFORMATION: The EPA received appetition from WildEarth Guardians dated November 2, 2022, and a petition from the Center for Biological Diversity and Grand Valley Citizens Alliance dated November 23, 2022, requesting that the EPA object to the issuance of operating permit no. 09OPGA330, issued by CDPHE to Terra Energy Partners, Rocky Mountain LLC in Garfield County, Colorado. On June 14, 2023, the EPA Administrator issued an order granting in part and denying in part the petition. The order itself explains the basis for the EPA's decision.

Sections 307(b) and 505(b)(2) of the CAA provide that a petitioner may request judicial review of those portions of an order that deny issues in a petition. Any petition for review shall be filed in the United States Court of Appeals for the appropriate circuit no later than October 27, 2023.

Dated: August 18, 2023.
KC Becker,
Regional Administrator, Region 8.

[FR Doc. 2023-18454 Filed 8-25-23; 8:45 am]

BILLING CODE 6560-50-P